DEPARTMENT OF TRANSPORTATION

Office of the Secretary

Privacy Act of 1974: System of Records

AGENCY: Office of the Secretary, DOT.

ACTION: Notice to establish a system of records.

SUMMARY: DOT intends to establish a system of record under the Privacy Act of 1974.

DATES: This notice will be effective, without further notice, on November 28, 2005, unless modified by a subsequent notice to incorporate comments received by the public. Comments must be received by November 16, 2005 to be assured consideration.

ADDRESSES: Send comments to Steven Lott, Departmental Privacy Officer, United States Department of Transportation, Office of the Secretary, 400 7th Street, SW., Room 6106, Washington DC 20590 or Steven.Lott@dot.gov.

FOR FURTHER INFORMATION CONTACT: Robert A. Monniere, Office of the Chief Counsel, Department of Transportation, Research and Innovative Technology Administration (RITA), Room 3105, 400 7th Street, SW., Washington DC, 20590, 202-366-5498 (voice), 202-366-3759 (fax), or robert.monniere@dot.gov.

SUPPLEMENTARY INFORMATION: The Department of Transportation system of records notice subject to the Privacy Act of 1974 (5 U.S.C. 552a), as amended, has been published in the Federal Register and is available from the above mentioned address.

System number:

DOT/RITA 016.

System name:

TSI's Online Catalog and Learning Management System.

Security classification:

Sensitive, unclassified.

System location:

This system of record is in the Research and Innovative Technology Administration, Transportation Safety Institute, U.S. Department of Transportation, 6500 South MacArthur Boulevard, Oklahoma City, OK 73169.

Categories of individuals covered by the system:

The system consists of information on individuals who have enrolled in one or more TSI courses.

Categories of records in the system:

The information in the system consists of personally identifiable information on each student such as full name, home and work address, all phone numbers, e-mail address, employer, and job title.

Authority for maintenance of the system:

49 U.S.C. 112(d)(1).

Purpose(s):

To monitor training programs provided by TSI for all DOT modes and industry.

Routine uses of records maintained in the system, including categories of users and the purpose of such as:

(1) TSI may disclose information from this system of records to:

a. Authorized representatives of the United States Government for the purposes of building class schedules, statistical information, and determining qualifications

b. Student supervisors for purposes of building class schedules and transcripts

c. Contacting universities for the purpose of continuing education credits

(2) TSI may use information from this system of records to determine:

Type of payment for classes

a. Category of student

b. If student has completed prerequisites or class eligibility

c. If student has completed necessary classes for available certifications

d. Potential contacts for instructors

e. Students that have taken a specific course or class

f. Successful class completion

g. The employer of a student and the region the student resides

h. Student enrollment priority level

i. Qualification expiration date

j. Continuing education units awarded to students

k. Statistical information

(3) See Prefatory Statement of General Routine Uses, 65 FR 19477 (April 11, 2000).

Disclosure to consumer reporting agencies:

None.

Policies and practices for storing, retrieving, accessing, retaining, and disposing of records in the system:

Storage:

Documents are stored in electronic form and as paper records.

Retrievability:

Electronic records are retrievable by student's name, personal identifier, class, course, division student registered with, category of student, employer, location, job, e-mail address, student's supervisor, student's city, state, or zip. Paper records are retrievable by class, course, or student name.

Safeguards:

Access to records is limited to those who process the records for the specific routine uses stated above (e.g., personnel in TSI and various federal agencies that have a specific need for the information). Various methods of computer security limit access to records in the automated database. Recent paper records are stored in file cabinets in their respective division. Archived paper records are stored in a TSI long term storage facility. Access to this facility is limited to TSI's Operations Support Division.

Retention and disposal:

Most paper records are destroyed after 10 years. Electronic records are stored for an indefinite period of time.

System manager(s) and address:

Operations Support Division, Transportation Safety Institute, U.S. Department of Transportation, 6500 South MacArthur Boulevard, Oklahoma City, OK 73169. E-mail tsitechsupport@tsi.jccbi.gov.

Notification procedure:

Same as “System Manager”.

Record access procedures:

Same as “System Manager”.

Contesting records procedures:

Same as “System Manager”.

Record source categories:

Information contained in this system is provided by individuals or on behalf of individuals, through electronic submission, telephone, fax or mail form, rosters provided by other federal or state agencies, and rosters provided by foreign entities received by TSI.

Exemption claimed for the system:

None.

OMB Control number:

None.

Dated: October 6, 2005.
Steven Lott,
Departmental Privacy Officer.

[FR Doc. 05-20693 Filed 10-14-05; 8:45 am]

BILLING CODE 4910-62-P